DEPARTMENT OF HEALTH AND HUMAN SERVICES

Food and Drug Administration

[Docket No. 02D-0032]

Guidance for Industry; Implementation of Section 755 of the Agriculture, Rural Development, Food and Drug Administration, and Related Agencies Appropriations Act of 2002, Pub. L. No. 107-76, § 755 (2001) Regarding Common or Usual Names for Catfish; Availability; Correction

AGENCY: Food and Drug Administration, HHS.

ACTION: Notice; correction.

SUMMARY: The Food and Drug Administration (FDA) is correcting a notice that appeared in the Federal Register of February 6, 2002 (67 FR 5604). The document announced the availability of a document entitled “Guidance for Industry; Implementation of Section 755 of the Agriculture, Rural Development, Food and Drug Administration, and Related Agencies Appropriations Act of 2002, Pub. L. 107-76, § 755 (2001) Regarding Common or Usual Names for Catfish.” The document was inadvertently published without the mailing address for the Dockets Management Branch. This document corrects that error.

FOR FURTHER INFORMATION CONTACT: Doris B. Tucker, Office of Policy (HF-27), Food and Drug Administration, 5600 Fishers Lane, Rockville, MD 20857, 301-827-7010.

In FR Doc. 02-2753, appearing on page 5604 in the Federal Register of Wednesday, February 6, 2002, the following correction is made:

On page 5604, in the third column, add the following sentence at the end of the ADDRESSES section: “Submit written comments on the document to the Dockets Management Branch (HFA-305), Food and Drug Administration, 5630 Fishers Lane, rm. 1061, Rockville, MD 20852.”

Dated: March 4, 2002.
Margaret M. Dotzel,
Associate Commissioner for Policy.

[FR Doc. 02-5666 Filed 3-8-02; 8:45 am]

BILLING CODE 4160-01-P